DEPARTMENT OF STATE

Office of Foreign Missions

[Public Notice 3874]

30-Day Notice of Proposed Information Collection: Form DS-1504, Request for Customs Clearance of Merchandise (OMB Control #1405-0104)

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Re-instatement of an expired information collection.

Originating Office: Bureau of Diplomatic Security, Office of Foreign Missions, DS/OFM/VTC/TC.

Title of Information Collection: Request for Customs Clearance of Merchandise.

Frequency: On occasion.

Form Number: DS-1504.

Respondents: Eligible members of foreign diplomatic or consular missions, certain foreign government organizations, designated international organizations and certain categories of foreign military personnel assigned to a foreign mission in the United States. The White House also uses this form when it requests duty-free entry of a shipment.

Estimated Number of Respondents: Approximately 7,000 individual respondents, 1,034 organizational respondents, and the White House.

Average Hours per Response: The average time per response is approx. 15 minutes.

Total Estimated Burden: 3,072 hours.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection form and supporting documents may be obtained from Mr. Edmond McGill, DS/OFM/VTC/TC, 3507 International Place, NW., U.S. Department of State, Washington, DC 20008, tel.: 202-895-3618. Public comments and questions should be directed to the State Department Desk Officer, Office of Information and Regulatory Affairs, Office of Management and Budget (OMB), Washington, DC 20530, who may be reached on 202-395-3897.

Dated: November 27, 2001.
Theodore Strickler,
Deputy Assistant Secretary of State and Deputy Director, Office of Foreign Missions, Bureau of Diplomatic Security, U.S. Department of State.

[FR Doc. 02-662 Filed 1-9-02; 8:45 am]

BILLING CODE 4710-43-U